DEPARTMENT OF THE INTERIOR

Fish and Wildlife Service

[Docket No. FWS-HQ-MB-2018-0048; FXMB 12320900000//189//FF09M29000]

Draft List of Bird Species to Which the Migratory Bird Treaty Act Does Not Apply

AGENCY: Fish and Wildlife Service, Interior.

ACTION: Notice of availability; request for comments.

SUMMARY: We, the U.S. Fish and Wildlife Service, are publishing a draft list of the nonnative bird species that have been introduced by humans into the United States or U.S. territories and to which the Migratory Bird Treaty Act (MBTA) does not apply. The Migratory Bird Treaty Reform Act (MBTRA) of 2004 amends the MBTA by stating that the MBTA applies only to migratory bird species that are native to the United States or U.S. territories, and that a native migratory bird species is one that is present as a result of natural biological or ecological processes. The MBTRA requires that we publish a list of all nonnative, human-introduced bird species to which the MBTA does not apply. We published that list in 2005, and are starting the process to update it with this notice. This notice identifies those species that are not protected by the MBTA, even though they belong to biological families referred to in treaties that the MBTA implements, as their presence in the United States or U.S. territories is solely the result of intentional or unintentional human-assisted introductions. This notice presents a draft list of species that are not protected by the MBTA to reflect current taxonomy, to remove one species that no longer occurs in a protected family, and to remove one species as a result of new distributional records documenting its natural occurrence in the United States.

DATES: We will accept comments received or postmarked on or before January 28, 2019. Comments submitted electronically using the Federal eRulemaking Portal (see ADDRESSES, below) must be received by 11:59 p.m. Eastern Time on the closing date.

ADDRESSES:

Written comments: You may submit comments by one of the following methods:

(1) Electronically: Go to the Federal eRulemaking Portal: http://www.regulations.gov. In the Search box, enter FWS-HQ-MB-2018-0048, which is the docket number for this notice. Then, click on the Search button. On the resulting page, in the Search panel on the left side of the screen, under the Document Type heading, click on the Notice box to locate this document. You may submit a comment by clicking on “Comment Now!”

(2) By hard copy: Submit by U.S. mail or hand-delivery to: Public Comments Processing, Attn: FWS-HQ-MB-2018-0048, U.S. Fish and Wildlife Service, MS: BPHC, 5275 Leesburg Pike, Falls Church, VA 22041-3803.

We request that you send comments only by the methods described above. We will post all comments on http://www.regulations.gov. This generally means that we will post any personal information you provide us (see Public Comments, below, for more information).

Document availability: The complete file for this notice is available for inspection, by appointment. Contact Eric L. Kershner, Chief of the Branch of Conservation, Permits, and Regulations; Division of Migratory Bird Management; U.S. Fish and Wildlife Service; MS:MB; 5275 Leesburg Pike, Falls Church, VA 22041-3803; (703) 358-2376.

FOR FURTHER INFORMATION CONTACT:

Eric L. Kershner, (703) 358-2376.

SUPPLEMENTARY INFORMATION:

What is the purpose of this notice?

The purpose of this notice is to provide the public with an opportunity to review and comment on a draft updated list of “all nonnative, human-introduced bird species to which the Migratory Bird Treaty Act (16 U.S.C. 703 et seq.) does not apply,” as described in the MBTRA of 2004. The MBTRA states that “[a]s necessary, the Secretary may update and publish the list of species exempted from protection of the Migratory Bird Treaty Act.”

This notice is strictly informational. It merely updates our list of the bird species to which the MBTA does not apply. The presence or absence of a species on this list has no legal effect. This list does not change the protections that any of these species might receive under such agreements as the Convention on International Trade in Endangered Species of Wild Fauna and Flora (CITES; T.I.A.S. 8249), the Endangered Species Act of 1973 (16 U.S.C. 1531 et seq.), or the Wild Bird Conservation Act of 1992 (16 U.S.C. 4901 et seq.). Regulations implementing the MBTA are found in parts 10, 20, and 21 of title 50 of the Code of Federal Regulations (CFR). The list of migratory birds covered by the MBTA is located at 50 CFR 10.13. Elsewhere in today's Federal Register, we propose to revise the list of migratory bird species that are protected under the MBTA at 50 CFR 10.13.

For more information, refer to our notice published in the Federal Register on January 4, 2005, at 70 FR 372.

What criteria did we use to identify bird species not protected by the MBTA?

The criteria remain the same as stated in our notice published on March 15, 2010, at 70 FR 12710.

Summary of Updates to the 2010 List of Bird Species Not Protected by the MBTA

This notice presents a draft list of species that are not protected by the MBTA to reflect current taxonomy, to remove one species that no longer occurs in a protected family, and to remove one species as a result of new distributional records documenting its natural occurrence in the United States. The taxonomical updates are presented in the draft list below. Japanese Bush-Warbler (Cettia diphone) and Red-Legged Honeycreeper (Cyanerpes cyaneus) appeared on the March 15, 2010, list (70 FR 12710), but are not on this draft list because Japanese Bush-Warbler (Cettia diphone) no longer occurs in a protected family due to changes in taxonomy, and new distributional records document the natural occurrence of Red-Legged Honeycreeper (Cyanerpes cyaneus) in the United States.

The Draft List

What are the nonnative, human-introduced bird species to which the MBTA does not apply that belong to biological families of migratory birds covered under any of the migratory bird conventions with Great Britain (for Canada), Mexico, Russia, or Japan?

We made this draft list as comprehensive as possible by including all nonnative, human-assisted species that belong to any of the families referred to in the treaties and whose occurrence(s) in the United States or U.S. territories have been documented in the scientific literature. It is not, however, an exhaustive list of all the nonnative species that could potentially appear in the United States or U.S. territories as a result of human assistance. New species of nonnative birds are being reported annually in the United States, and it is impossible to predict which species might appear in the near future.

The appearance of a species on this list does not preclude its addition to the list of migratory birds protected by the MBTA (50 CFR 10.13) at some later date should substantial evidence come to light confirming natural occurrence in the United States or U.S. territories. The 123 species on this list are arranged by family according to the American Ornithological Society (AOS) (1998, as amended and following taxonomy in the AOS 2017 supplement). Within families, species are arranged alphabetically by scientific name. Common and scientific names follow Clements et al. (2017); any names occurring differently in the AOS 2017 supplement are in parentheses.

Family Anatidae

Mandarin Duck, Aix galericulata

Egyptian Goose, Alopochen aegyptiaca

Philippine Duck, Anas luzonica

Graylag Goose, Anser anser

Domestic Goose, Anser anser `domesticus'

Swan Goose, Anser cygnoides

Bar-headed Goose, Anser indicus

Red-breasted Goose, Branta ruficollis

Ringed Teal, Callonetta leucophrys

Maned Duck, Chenonetta jubata

Coscoroba Swan, Coscoroba coscoroba

Black Swan, Cygnus atratus

Black-necked Swan, Cygnus melancoryphus

Mute Swan, Cygnus olor

White-faced Whistling-Duck, Dendrocygna viduata

Rosy-billed Pochard, Netta peposaca

Red-crested Pochard, Netta rufina

Cotton Pygmy-Goose, Nettapus coromandelianus

Orinoco Goose, Oressochen jubatus (Neochen jubata)

Hottentot Teal, Spatula hottentota

Ruddy Shelduck, Tadorna ferruginea

Common Shelduck, Tadorna tadorna

Family Phoenicopteridae

Lesser Flamingo, Phoeniconaias minor

Chilean Flamingo, Phoenicopterus chilensis

Family Columbidae

Nicobar Pigeon, Caloenas nicobarica

Asian Emerald Dove, Chalcophaps indica

Rock Pigeon, Columba livia

Common Wood-Pigeon, Columba palumbus

Luzon Bleeding-heart, Gallicolumba luzonica

Diamond Dove, Geopelia cuneata

Bar-shouldered Dove, Geopelia humeralis

Zebra Dove, Geopelia striata

Spinifex Pigeon, Geophaps plumifera

Partridge Pigeon, Geophaps smithii

Wonga Pigeon, Leucosarcia melanoleuca

Crested Pigeon, Ocyphaps lophotes

Common Bronzewing, Phaps chalcoptera

Blue-headed Quail-Dove, Starnoenas cyanocephala

Island Collared-Dove, Streptopelia bitorquata

Spotted Dove, Streptopelia chinensis

Eurasian Collared-Dove, Streptopelia decaocto

African Collared-Dove, Streptopelia roseogrisea

Family Trochilidae

Black-throated Mango, Anthracothorax nigricollis

Family Rallidae

Gray-cowled Wood-Rail, Aramides cajaneus

Family Gruiidae

Demoiselle Crane, Anthropoides virgo

Sarus Crane, Antigone antigone

Black Crowned-Crane, Balearica pavonina

Gray Crowned-Crane, Balearica regulorum

Family Charadriidae

Southern Lapwing, Vanellus chilensis

Spur-winged Lapwing, Vanellus spinosus

Family Laridae

Silver Gull, Chroicocephalus novaehollandiae

Family Ciconiidae

Abdim's Stork, Ciconia abdimii

White Stork, Ciconia ciconia

Woolly-necked Stork, Ciconia episcopus

Black-necked Stork, Ephippiorhynchus asiaticus

Family Phalacrocoracidae

Red-legged Cormorant, Phalacrocorax gaimardi

Family Anhingidae

Oriental Darter, Anhinga melanogaster

Family Pelecanidae

Great White Pelican, Pelecanus onocrotalus

Pink-backed Pelican, Pelecanus rufescens

Family Threskiornithidae

Eurasian Spoonbill, Platalea leucorodia

Sacred Ibis, Threskiornis aethiopicus

Family Cathartidae

King Vulture, Sarcoramphus papa

Family Accipitridae

Great Black Hawk, Buteogallus urubitinga

Variable Hawk, Geranoaetus polyosoma

Griffon-type Old World vulture, Gyps sp.

Bateleur, Terathopius ecaudatus

Family Strigidae

Spectacled Owl, Pulsatrix perspicillata

Family Corvidae

Black-throated Magpie-Jay, Calocitta colliei

White-necked Raven, Corvus albicollis

Carrion Crow, Corvus corone

Cuban Crow, Corvus nasicus

House Crow, Corvus splendens

Azure Jay, Cyanocorax caeruleus

San Blas Jay, Cyanocorax sanblasianus

Rufous Treepie, Dendrocitta vagabunda

Eurasian Jay, Garrulus glandarius

Red-billed Chough, Pyrrhocorax pyrrhocorax

Red-billed Blue-Magpie, Urocissa erythroryncha

Family Alaudidae

Japanese Skylark, Alauda japonica

Wood Lark, Lullula arborea

Calandra Lark, Melanocorypha calandra

Mongolian Lark, Melanocorypha mongolica

Family Paridae

Eurasian Blue Tit, Cyanistes caeruleus

Great Tit, Parus major

Varied Tit, Sittiparus varius

Family Cinclidae

White-throated Dipper, Cinclus cinclus

Family Sylviidae

Eurasian Blackcap, Sylvia atricapilla

Family Muscicapidae

Indian Robin, Copsychus fulicatus

White-rumped Shama, Copsychus malabaricus

Oriental Magpie-Robin, Copsychus saularis

European Robin, Erithacus rubecula

Japanese Robin, Larvivora akahige

Ryukyu Robin, Larvivora komadori

Common Nightingale, Luscinia megarhynchos

Family Turdidae

Song Thrush, Turdus philomelos

Red-throated Thrush, Turdus ruficollis

Family Prunellidae

Dunnock, Prunella modularis

Family Fringillidae

European Goldfinch, Carduelis carduelis

European Greenfinch, Chloris chloris

White-rumped Seedeater, Crithagra leucopygia

Yellow-fronted Canary, Crithagra mozambica

Eurasian Linnet, Linaria cannabina

Parrot Crossbill, Loxia pytyopsittacus

Island Canary, Serinus canaria

Red Siskin, Spinus cucullatus

Hooded Siskin, Spinus magellanicus

Family Emberizidae

Yellowhammer, Emberiza citrinella

Family Icteridae

Venezuelan Troupial, Icterus icterus

Spot-breasted Oriole, Icterus pectoralis

Montezuma Oropendola, Psarocolius montezuma

Red-breasted Meadowlark, Sturnella militaris

Family Cardinalidae

Orange-breasted Bunting, Passerina leclancherii

Red-hooded Tanager, Piranga rubriceps

Family Thraupidae

Yellow Cardinal, Gubernatrix cristata

Greater Antillean Bullfinch, Loxigilla violacea

Cuban Bullfinch, Melopyrrha nigra

Yellow-billed Cardinal, Paroaria capitata

Red-crested Cardinal, Paroaria coronata

Red-cowled Cardinal, Paroaria dominicana

Red-capped Cardinal, Paroaria gularis

Saffron Finch, Sicalis flaveola

Blue-gray Tanager, Thraupis episcopus

Cuban Grassquit, Tiaris canorus

Public Comments

We request comments or information on this draft list from other concerned governmental agencies, the scientific community, industry, or any other interested parties.

Please include sufficient information with your submission (such as electronic copies of scientific journal articles or other publications, preferably in English) to allow us to verify any scientific or commercial information you include.

You may submit your comments and materials concerning this draft list by one of the methods listed in ADDRESSES. We request that you send comments only by the methods described in ADDRESSES.

If you submit information via http://www.regulations.gov, your entire submission—including any personal identifying information—will be posted on the website. If your submission is made via a hardcopy that includes personal identifying information, you may request at the top of your document that we withhold this information from public review. However, we cannot guarantee that we will be able to do so. We will post all hardcopy submissions on http://www.regulations.gov.

Comments and materials we receive will be available for public inspection on http://www.regulations.gov, or by appointment, during normal business hours, at the U.S. Fish and Wildlife Service, Division of Migratory Bird Management (see ADDRESSES).

Author

The author of this notice is Jo Anna Lutmerding, U.S. Fish and Wildlife Service, Division of Migratory Bird Management, 5275 Leesburg Pike, Falls Church, VA 22041.

References Cited

American Ornithological Society. 2017. Fifty-eighth to the American Ornithological Society's Check-list of North American Birds. Auk 134:751-773.

American Ornithologists' Union. 1998. Check-list of North American birds: the species of birds of North America from the Arctic through Panama, including the West Indies and Hawaiian Islands. 7th edition. Washington, DC.

Clements, J.F., T.S. Schulenberg, M.J. Iliff, D. Roberson, T.A. Fredericks, B.L. Sullivan, and C.L. Wood. 2017. The eBird/Clements checklist of birds of the world: v2017. Downloaded from http://www.birds.cornell.edu/clementschecklist/download/.

Authority

The authority for this notice is the Migratory Bird Treaty Reform Act of 2004 (Division E, Title I, Sec. 143 of the Consolidated Appropriations Act, 2005; Pub. L. 108-447), and the Migratory Bird Treaty Act (16 U.S.C. 703-712).

Dated: November 5, 2018.
James W. Kurth,
Deputy Director, U.S. Fish and Wildlife Service, Exercising the Authority of the Director, U.S. Fish and Wildlife Service.

[FR Doc. 2018-25631 Filed 11-27-18; 8:45 am]

BILLING CODE 4333-15-P